DEPARTMENT OF COMMERCE

International Trade Administration

[A-560-805]

Certain Cut-To-Length Carbon-Quality Steel Plate Products From Indonesia: Initiation of New Shipper Antidumping Duty Review

AGENCY: Import Administration, International Trade Administration, Department of Commerce.

SUMMARY: The Department of Commerce has received a request to conduct a new shipper review of the antidumping duty order on certain cut-to-length carbon-quality steel plate products from Indonesia. In accordance with section 751(a)(2)(B) of the Tariff Act of 1930, as amended, and 19 CFR 351.214(d), we are initiating a review for PT. Gunung Raja Paksi.

EFFECTIVE DATE: March 27, 2001.

FOR FURTHER INFORMATION CONTACT: Barbara Wojcik-Betancourt or Brian Smith, Import Administration, International Trade Administration, U.S. Department of Commerce, 14th Street and Constitution Avenue, NW, Washington, DC 20230; telephone (202) 482-0629 or (202) 482-1766, respectively.

Applicable Statute and Regulations

Unless otherwise indicated, all citations to the Tariff Act of 1930, as amended (“the Act”), are references to the provisions effective January 1, 1995, the effective date of the amendments made to the Act by the Uruguay Round Agreements Act. In addition, unless otherwise indicated, all references to the Department of Commerce's (“the Department's”) regulations are to 19 CFR Part 351 (2000).

SUPPLEMENTARY INFORMATION:

Background

On February 22, 2001, the Department received a request from PT. Gunung Raja Paksi (“Gunung”), pursuant to section 751(a)(2)(B) of the Act, and in accordance with 19 CFR 351.214, for a new shipper review of the antidumping duty order on certain cut-to-length carbon-quality steel plate products (“CTL Plate”) from Indonesia. This order has a February anniversary month. See Notice of Amendment of Final Determinations of Sales at Less-Than-Fair Value and Antidumping Duty Orders: Certain Cut-To-Length Carbon-Quality Steel Plate Products from France, India, Indonesia, Italy, Japan, and the Republic of Korea, 65 FR 6585 (February 10, 2000). Therefore, this request is timely pursuant to 19 CFR 351.214(b)(2)(c).

In accordance with 19 CFR 351.214(b)(2)(i) and (iii)(A), Gunung has certified (1) that it did not export CTL Plate to the United States during the period of investigation (“POI”); and (2) that, since the investigation was initiated, it never has been affiliated with any exporter or producer who did export CTL Plate to the United States during the POI, including those not examined during the investigation. Also, in accordance with 19 CFR 351.214(b)(2)(iv), Gunung submitted documentation establishing (1) the date on which it first shipped the subject merchandise to the United States, (2) the volume of that shipment, and (3) the date of the first sale to an unaffiliated customer in the United States.

On February 24, 2001, Gunung submitted a certification clarifying that it is both the producer and exporter of the subject merchandise sold to the United States during the period February 1, 2000, through January 31, 2001.

Therefore, in accordance with section 751(a)(2)(B) of the Act and 19 CFR 351.214(b), we are initiating the new shipper review of the antidumping duty order on CTL Plate from Indonesia for Gunung.

We will issue a questionnaire to Gunung, allowing approximately 37 days for response.

Initiation of Review

In accordance with section 751(a)(2)(B)(ii) of the Act and 19 CFR 351.214(d)(1), we are initiating a new shipper review of the antidumping duty order on CTL Plate from Indonesia. In accordance with section 751(b)(iv) of the Act and 19 CFR 351.214(h)(i), we intend to issue the preliminary results of this review not later than 180 days after the date of publication of this notice. All provisions of 19 CFR 351.214 will apply to Gunung throughout the duration of this new shipper review.

Antidumping duty proceeding | Period to be reviewed
Indonesia: Certain Cut-To-Length Carbon-Quality Steel Plate Products, A-560-805; PT. Gunung Raja Paksi | 02/01/00-1/31/01

Pursuant to 19 CFR 351.214(g)(i)(A), the standard period of review (“POR”) in a new shipper review, which like this one, was initiated in the month immediately following the anniversary month, is the twelve month period immediately preceding the anniversary month. Therefore, the POR for this new shipper review is February 1, 2000, through January 31, 2001.

Concurrent with publication of this notice, and in accordance with 19 CFR 351.214(e), we will instruct the Customs Service to suspend liquidation of any unliquidated entries of the subject merchandise from the relevant exporter or producer, and to allow, at the option of the importer, the posting, until the completion of the review, of a bond or security in lieu of a cash deposit for each entry of the subject merchandise exported by the above-listed company.

Interested parties that need access to proprietary information in this new shipper review should submit applications for disclosure under administrative protective order in accordance with 19 CFR 351.305 and 351.306.

This initiation and notice are in accordance with section 751(a) of the Act (19 U.S.C. 1675(a)) and 19 CFR 351.214.

Dated: March 12, 2001.
Richard W. Moreland,
Deputy Assistant Secretary for Import Administration.

[FR Doc. 01-7560 Filed 3-26-01; 8:45 am]

BILLING CODE 3510-DS-P